OFFICE OF PERSONNEL MANAGEMENT

Submission for Review: Presidential Management Fellows (PMF) Nomination Form, OPM 1300, 3206-0082

AGENCY: U.S. Office of Personnel Management.

ACTION: 60-Day notice and request for comments.

SUMMARY: The Office of Personnel Management (OPM) offers the general public and other Federal agencies the opportunity to comment on an extension of an already existing information collection request (ICR) 3206-0082, OPM Form 1300—Presidential Management Fellows (PMF) Nomination Form. As required by the Paperwork Reduction Act of 1995 (Pub. L. 104-13, 44 U.S.C. chapter 35), as amended by the Clinger-Cohen Act (Pub. L. 104-106), OPM is soliciting comments for this collection on behalf of the Office of Management and Budget. The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until June 17, 2011. This process is conducted in accordance with 5 CFR 1320.1.

ADDRESSES: Interested persons are invited to submit written comments on the proposed information collection to the U.S. Office of Personnel Management, Attention: Rob Timmins, 1900 E Street, NW., Room 1425, Washington, DC 20415, or sent via electronic mail to pmf@opm.gov, or faxed to (202) 606-3040.

FOR FURTHER INFORMATION CONTACT: A copy of this ICR, with applicable supporting documentation, may be obtained by contacting the U.S. Office of Personnel Management, Attention: Rob Timmins, 1900 E Street, NW., Room 1425, Washington, DC 20415, or sent via electronic mail to pmf@opm.gov, or faxed to (202) 606-3040.

SUPPLEMENTARY INFORMATION: The OPM Form 1300, Presidential Management Fellows (PMF) Nomination Form, is used by accredited colleges and universities to nominate eligible graduate students to the Presidential Management Fellows (PMF) Program. Information about the PMF Program (e.g., eligibility, application and nomination process, guidance for academia, and a sample copy of the OPM Form 1300) can be found at http://www.pmf.gov.

Analysis

Agency: Employee Services, U.S. Office of Personnel Management.

Title: OPM Form 1300—Presidential Management Fellows (PMF) Nomination Form.

OMB Number: 3206-0082.

Affected Public: Academic institutions, graduate students, and individuals.

Number of Respondents: 9,000.

Estimated Time per Respondent: 10 minutes.

Total Burden Hours: 1,500 hours.

U.S. Office of Personnel Management.
John Berry,
Director.

[FR Doc. 2011-9254 Filed 4-15-11; 8:45 am]

BILLING CODE 6325-38-P